SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on September 11, 2008 from approximately 8:30 a.m. to 3 p.m. EST.

ADDRESSES: The meeting will be held at the U.S. Small Business Administration, 409 Third Street, SW., Eisenhower Conference Room, Washington, DC 20416.

SUPPLEMENTARY INFORMATION: Pursuant to section 10(a)(2) of the Federal Advisory Committee Act (5 U.S.C. appendix 2), SBA announces the meeting of the National Women's Business Council. The National Women's Business Council is tasked with providing issues of importance to women business owners to the President, Congress, and the SBA Administrator.

The purpose of the meeting is to introduce the NWBC's agenda and action items for fiscal year 2009 included but not limited to procurement, access to capital, access to training and technical assistance, and affordable health care. The topics to be discussed will include: H.R. 5050 20th anniversary celebration; update on FY 2008 projects; swearing in of new members; upcoming Town Hall Meeting on November 6, in San Francisco, CA; and future projects.

FOR FURTHER INFORMATION CONTACT: The meeting is open to the public; however, advance notice of attendance is requested. Anyone wishing to attend or make a presentation to the NWBC must contact Katherine Stanley by Friday, September 5, 2008, by fax or e-mail in order to be placed on the agenda. Katherine Stanley, Operations Manager, NWBC, 409 Third Street, SW., Suite 210, Washington, DC 20416, telephone 202-205-6695, fax 202-205-6825, e-mail Katherine.stanley@nwbc.gov.

Additionally, if you need accommodations because of a disability or require additional information, please contact Katherine Stanley at the above information.

For more information, please visit our Web site at http://www.nwbc.gov.

Cherylyn LeBon,
SBA Committee Management Officer.

[FR Doc. E8-19146 Filed 8-18-08; 8:45 am]

BILLING CODE 8025-01-P